DEPARTMENT OF HEALTH AND HUMAN SERVICES

Health Information Technology Advisory Committee 2018 Schedule

AGENCY: Office of the National Coordinator for Health Information Technology (ONC), HHS.

ACTION: Notice of the Health Information Technology Advisory Committee 2018 schedule.

SUMMARY: This notice fulfills obligations under section 3002 of the Public Health Service Act (PHSA), as amended by the 21st Century Cures Act. Section 3002(b) (5) of the PHSA, as amended, mandates that the Health Information Technology Advisory Committee shall develop a schedule for the assessment of policy recommendations and the Secretary shall publish such schedule in the Federal Register.

FOR FURTHER INFORMATION CONTACT: Lauren Richie Designated Federal Officer, at Lauren.Richie@hhs.gov.

SUPPLEMENTARY INFORMATION: Section 3002 of the Public Health Service Act (PHSA), as amended by the 21st Century Cures Act (Pub. L. 114-255), establishes the Health Information Technology Advisory Committee (HITAC). The HITAC will be governed by the provisions of the Federal Advisory Committee Act (Pub. L. 92-463), as amended (5 U.S.C. App.), which sets forth standards for the formation and use of federal advisory committees. The HITAC, among other things, shall identify priorities for standards adoption and make recommendations to the National Coordinator for Health Information Technology (National Coordinator) on a policy framework to advance an interoperable health information technology infrastructure.

Health Information Technology Advisory Committee Schedule

Section 3002(b)(5) of the PHSA, as amended, provides that the HITAC shall develop a schedule for the assessment of policy recommendations developed by the HITAC and publish the schedule in the Federal Register. This schedule addresses the assessment of recommendations outlined in the policy framework recommended by the HITAC to the National Coordinator.

Accordingly, the schedule for the HITAC's assessment of policy recommendations is as follows:

1. Within 90 days of a charge by the National Coordinator for recommendations on a matter, identify the best mechanism to organize itself to develop recommendations, and at a minimum, will:

a. Develop an assessment of what policies, standards, implementation specifications, and certification criteria are currently available to be considered as part of the request;

b. Consider where gaps exist and identify potential organizations that have the capability to address those gaps (i.e., no policy or standard is available or harmonization is required because more than one standard exists) related to the request; and

c. Create a timeline, which may also account for the National Institute of Standards and Technology (NIST) testing, where appropriate, and include dates when the HITAC is expected to issue the recommendation to the National Coordinator.

d. Include an opportunity for public comment during the consideration by the HITAC of the request by the National Coordinator for recommendations on a matter.

2. In responding to the National Coordinator:

a. Approve a timeline to deliver recommendations to the National Coordinator; and

b. Establish a task force to conduct analysis and solicit input, where appropriate, and develop draft recommendations to be considered by the full committee in a timely manner.

3. In collaboration with NIST, annually and through the use of public input, review and publish priorities for the use of health information technology, standards, and implementation specifications to support those priorities.

4. Recommend to the National Coordinator for purposes of adoption under section 3004, standards, implementation specifications, and certification criteria and an order of priority for the development, harmonization, and recognition of such standards, specifications, and certification criteria. Such recommendations shall include recommended standards, architectures, and software schemes for access to electronic individually identifiable health information across disparate systems including user vetting, authentication, privilege management, and access control.

The topics in which the HITAC is expected to address in FY2018 include, but may not be limited to the target areas as defined in section 3002 of the PHSA, as amended by the 21st Century Cures Act (Pub. L. 114-255), and they include:

1. Achieving a health information technology infrastructure that allows for the electronic access, exchange, and use of health information ;

2. The promotion and protection of privacy and security of health information in health information technology;

3. The facilitation of secure access by an individual to such individual's protected health information; and

4. Any other target area that the HITAC identifies as an appropriate target area to be considered. [42USC § 300jj (b)(2)(B)]

Notice of this meeting is given under section 3002(b)(5) of the PHSA, as amended.

Dated: March 1, 2018.
Lauren Richie,
Branch Chief, Office of Policy, Office of the National Coordinator for Health Information Technology.

[FR Doc. 2018-04543 Filed 3-7-18; 8:45 am]

BILLING CODE 4150-45-P